DEPARTMENT OF ENERGY

Federal Energy Regulatory Commission

Combined Notice of Filings #1

Take notice that the Commission received the following electric rate filings:

Docket Numbers: ER24-227-004.

Applicants: RPC Power, LLC.

Description: Tariff Amendment: Response to Deficiency Letter—Ownership Clarification (ER24-227-) to be effective 6/15/2024.

Filed Date: 6/14/24.

Accession Number: 20240614-5155.

Comment Date: 5 p.m. ET 7/5/24.

Docket Numbers: ER24-2270-000.

Applicants: ISO New England Inc.

Description: § 205(d) Rate Filing: ISO-NE; Ministerial Filing to Conform Section I.2 of ISO New England Inc. Tariff to be effective 4/15/2024.

Filed Date: 6/13/24.

Accession Number: 20240613-5117.

Comment Date: 5 p.m. ET 7/5/24.

Docket Numbers: ER24-2271-000.

Applicants: Aspen Road Solar 1, LLC.

Description: Baseline eTariff Filing: Market-Based Rate Application to be effective 8/13/2024.

Filed Date: 6/13/24.

Accession Number: 20240613-5118.

Comment Date: 5 p.m. ET 7/5/24.

Docket Numbers: ER24-2272-000.

Applicants: Egypt Road Solar, LLC.

Description: Baseline eTariff Filing: Market-Based Rate Application to be effective 8/13/2024.

Filed Date: 6/13/24.

Accession Number: 20240613-5121.

Comment Date: 5 p.m. ET 7/5/24.

Docket Numbers: ER24-2273-000.

Applicants: Jones Farm Lane Solar, LLC.

Description: Baseline eTariff Filing: Market-Based Rate Application to be effective 8/13/2024.

Filed Date: 6/13/24.

Accession Number: 20240613-5124.

Comment Date: 5 p.m. ET 7/5/24.

Docket Numbers: ER24-2274-000.

Applicants: Entergy Mississippi, LLC.

Description: § 205(d) Rate Filing: Ragsdale Solar, LLC, LBA Agreement to be effective 6/17/2024.

Filed Date: 6/14/24.

Accession Number: 20240614-5002.

Comment Date: 5 p.m. ET 7/5/24.

Docket Numbers: ER24-2275-000.

Applicants: Midcontinent Independent System Operator, Inc.

Description: § 205(d) Rate Filing: 2024-06-14_SA 4124 Termination of NIPSCO-Malden Solar GIA (J1447) to be effective 5/27/2024.

Filed Date: 6/14/24.

Accession Number: 20240614-5046.

Comment Date: 5 p.m. ET 7/5/24.

Docket Numbers: ER24-2276-000.

Applicants: Prairie Ronde Solar Farm, LLC.

Description: Baseline eTariff Filing: Petition for Initial Market-Based Rate Authority w/Waivers & Expedited Treatment to be effective 7/1/2024.

Filed Date: 6/14/24.

Accession Number: 20240614-5048.

Comment Date: 5 p.m. ET 7/5/24.

Docket Numbers: ER24-2277-000.

Applicants: Southwest Power Pool, Inc.

Description: § 205(d) Rate Filing: 2646R10 Kansas Municipal Energy Agency NITSA NOA to be effective 6/1/2024.

Filed Date: 6/14/24.

Accession Number: 20240614-5054.

Comment Date: 5 p.m. ET 7/5/24.

Docket Numbers: ER24-2278-000.

Applicants: New York Independent System Operator, Inc.

Description: § 205(d) Rate Filing: NYISO 205: LGIA LIPA Yaphank Energy Storage Project SA2847 (CEII) to be effective 5/31/2024.

Filed Date: 6/14/24.

Accession Number: 20240614-5056.

Comment Date: 5 p.m. ET 7/5/24.

Docket Numbers: ER24-2279-000.

Applicants: Bull Run Energy LLC.

Description: Bull Run Energy LLC Submits a Request for Prospective Tariff Waiver and Expedited Action.

Filed Date: 6/13/24.

Accession Number: 20240613-5158.

Comment Date: 5 p.m. ET 7/5/24.

Docket Numbers: ER24-2280-000.

Applicants: Pacific Gas and Electric Company.

Description: § 205(d) Rate Filing: CCSF Warnerville WPA (TO SA 284) to be effective 7/15/2024.

Filed Date: 6/14/24.

Accession Number: 20240614-5075.

Comment Date: 5 p.m. ET 7/5/24.

Docket Numbers: ER24-2281-000.

Applicants: PacifiCorp.

Description: Tariff Amendment: Notice of Termination of ESM Const Agmt Jim Bridger BAA Move to be effective 8/14/2024.

Filed Date: 6/14/24.

Accession Number: 20240614-5087.

Comment Date: 5 p.m. ET 7/5/24.

Docket Numbers: ER24-2282-000.

Applicants: Alabama Power Company, Georgia Power Company, Mississippi Power Company.

Description: Tariff Amendment: Alabama Power Company submits tariff filing per 35.15: Escatawpa Solar Energy (Prospero Solar I) LGIA Termination Filing to be effective 6/14/2024.

Filed Date: 6/14/24.

Accession Number: 20240614-5114.

Comment Date: 5 p.m. ET 7/5/24.

Docket Numbers: ER24-2283-000.

Applicants: Alabama Power Company, Georgia Power Company, Mississippi Power Company.

Description: Tariff Amendment: Alabama Power Company submits tariff filing per 35.15: Highland Timbers Solar Energy (Prospero Solar II) LGIA Termination Filing to be effective 6/14/2024.

Filed Date: 6/14/24.

Accession Number: 20240614-5115.

Comment Date: 5 p.m. ET 7/5/24.

Docket Numbers: ER24-2284-000.

Applicants: Mid-Atlantic Interstate Transmission, LLC, FirstEnergy Pennsylvania Electric Company, PJM Interconnection, L.L.C.

Description: § 205(d) Rate Filing: Mid-Atlantic Interstate Transmission, LLC submits tariff filing per 35.13(a)(2)(iii: MAIT and FE PA submits Amended Operating Maintenance Agreement, SA No. 3655 to be effective 8/14/2024.

Filed Date: 6/14/24.

Accession Number: 20240614-5116.

Comment Date: 5 p.m. ET 7/5/24.

Docket Numbers: ER24-2285-000.

Applicants: Nevada Power Company.

Description: § 205(d) Rate Filing: NPC Executed Non-Conforming LGIAs to be effective 2/2/2021.

Filed Date: 6/14/24.

Accession Number: 20240614-5120.

Comment Date: 5 p.m. ET 7/5/24.

Docket Numbers: ER24-2286-000.

Applicants: PJM Interconnection, L.L.C.

Description: § 205(d) Rate Filing: Amendment to ISA No. 5227, Queue No. AB2-158_AE1-154 to be effective 8/14/2024.

Filed Date: 6/14/24.

Accession Number: 20240614-5149.

Comment Date: 5 p.m. ET 7/5/24.

Docket Numbers: ER24-2287-000.

Applicants: Public Service Company of Colorado.

Description: § 205(d) Rate Filing: 2024-06-14 ABS-GI-2021-6-LGIA Amend-1-721 to be effective 8/14/2024.

Filed Date: 6/14/24.

Accession Number: 20240614-5151.

Comment Date: 5 p.m. ET 7/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 14, 2024.
Debbie-Anne A. Reese,
Acting Secretary.

[FR Doc. 2024-13729 Filed 6-21-24; 8:45 am]

BILLING CODE 6717-01-P